ENVIRONMENTAL PROTECTION AGENCY

[FRL-9618-1]

Notification of a Public Teleconference of the Science Advisory Board Committee on Science Integration for Decision Making

AGENCY: Environmental Protection Agency (EPA).

ACTION: Notice.

SUMMARY: The Environmental Protection Agency (EPA or Agency) Science Advisory Board (SAB) Staff Office announces a public teleconference of the SAB Committee on Science Integration for Decision Making.

DATES: The teleconference date is January 31, 2012 from 1 p.m. to 4 p.m. (Eastern Time).

ADDRESSES: The meeting will be held by teleconference only.

FOR FURTHER INFORMATION CONTACT: Members of the public who wish to obtain further information about this teleconference must contact Dr. Angela Nugent, Designated Federal Officer (DFO). Dr. Nugent may be contacted at the EPA Science Advisory Board (1400R), U.S. Environmental Protection Agency, 1200 Pennsylvania Avenue NW., Washington, DC 20460; or via telephone/voice mail; (202) 565-2218; fax (202) 564-2050; or email at nugent.angela@epa.gov. General information about the EPA SAB, as well as any updates concerning the public meeting announced in this notice, may be found on the SAB Web site at http://www.epa.gov/sab.

SUPPLEMENTARY INFORMATION: Pursuant to the Federal Advisory Committee Act, 5 U.S.C., App. 2 (FACA), notice is hereby given that the SAB Committee on Science Integration for Decision Making will hold a public teleconference to discuss a draft report based on fact-finding activities conducted as part of a study of science integration supporting EPA decision making. The SAB was established pursuant to 42 U.S.C. 4365 to provide independent scientific and technical advice to the Administrator on the technical basis for Agency positions and regulations. The SAB is a Federal Advisory Committee chartered under FACA. The SAB will comply with the provisions of FACA and all appropriate SAB Staff Office procedural policies.

Background: The SAB is undertaking an advisory activity to provide recommendations to strengthen science integration for EPA's environmental decisions. The purpose of the January 31, 2012 teleconference is for the SAB committee to discuss a draft report. Additional information about this advisory activity may be found on the SAB Web site at http://yosemite.epa.gov/sab/sabproduct.nsf/fedrgstr_activites/Science%20Integration?OpenDocument.

Availability of Meeting Materials: The agenda and other material in support of this upcoming meeting are posted on the SAB Web site at http://www.epa.gov/sab.

Procedures for Providing Public Input: Interested members of the public may submit relevant written or oral information on the topic of this advisory activity for the SAB to consider during the advisory process. Oral Statements: In general, individuals or groups requesting an oral presentation at a public teleconference will be limited to three minutes per speaker. Interested parties should contact Dr. Nugent, DFO, in writing (preferably via email) at the contact information noted above, by January 26, 2012 to be placed on a list of public speakers for the teleconference. Written Statements: Written statements should be received in the SAB Staff Office by January 26, 2012 so that the information may be made available to the SAB committee members for their consideration. Written statements should be supplied to the DFO in the following formats: one hard copy with original signature, and one electronic copy via email (acceptable file format: Adobe Acrobat PDF, WordPerfect, MS Word, MS PowerPoint, or Rich Text files in IBM-PC/Windows 98/2000/XP format). Submitters are requested to provide two versions of each document submitted with and without signatures, because the SAB Staff Office does not publish documents with signatures on its Web sites.

Accessibility: For information on access or services for individuals with disabilities, please contact Dr. Nugent at the phone number or email address noted above, preferably at least ten days prior to the teleconference to give EPA as much time as possible to process your request.

Dated: January 5, 2012.
Vanessa T. Vu,
Director, EPA Science Advisory Board Staff Office.

[FR Doc. 2012-450 Filed 1-11-12; 8:45 am]

BILLING CODE 6560-50-P